DEPARTMENT OF TRANSPORTATION

Office of the Secretary

Aviation Proceedings, Agreements filed the week ending January 20, 2006

The following Agreements were filed with the Department of Transportation under sections 412 and 414 of the Federal Aviation Act, as amended (49 U.S.C. 1382 and 1384) and procedures governing proceedings to enforce these provisions. Answers may be filed within 21 days after the filing of the application.

Docket Number: OST-2005-23654.

Date Filed: January 17, 2006.

Parties: Members of the International Air Transport Association.

Subject:

PAC/RESO/442 dated 13 December 2005;

MAIL VOTE (A128);

PAC2 (Mail A128) 814hh;

Extension of Resolution 814hh to Latvia and Lithuania.

Intended effective date: 1 February 2006.

Docket Number: OST-2005-23655.

Date Filed: January 17, 2006.

Parties: Members of the International Air Transport Association.

Subject:

PAC/RESO/442 dated 13 December 2005;

MAIL VOTE (A127);

PAC2 (Mail A127) 818;

New Financial Evaluation Criteria for Latvia.

Intended effective date: 1 February 2006.

Renee V. Wright,
Program Manager, Docket Operations, Federal Register Liaison.

[FR Doc. E6-1793 Filed 2-8-06; 8:45 am]

BILLING CODE 4910-62-P